DEPARTMENT OF JUSTICE

Notice of Lodging of Consent Decree Under the Comprehensive Environmental Response, Compensation and Liability Act (CERCLA)

Notice is hereby given that on March 28, 2008, a proposed Consent Decree in United States v. Atlanta Gas Light Company, et al., Civil Action No. 6:08-cv-00442-ACC-GJK (M.D. Fla.), was lodged with the United States District Court for the Middle District of Florida. The proposed Consent Decree resolves the United States' claims against: Atlanta Gas Light Company; City of Sanford; Florida Power & Light Company; Florida Power Corporation; and Florida Public Utilities Company (collectively the “Settling Defendants”), for cost recovery and injunctive relief under Sections 106 and 107 of CERCLA, 42 U.S.C. 9606 and 9607, relating to the release or threatened release of hazardous substances into the environment at or from the Sanford Gasification Plant Superfund Alternative Site (“Site”) located in Sanford, Seminole County, Florida.

The Consent Decree requires Settling Defendants to undertake the remedial action selected by the United States Environmental Protection Agency for the Site and to reimburse the United States for all of the government's past cost and future oversight cost incurred or to be incurred, plus interest, in connection with the remedial action at the Site. The estimated value of the cash payments and work performed by the Settling Defendants that the United States will receive under the terms of the Consent Decree is $12,703,224.58.

The Department of Justice will receive for a period of thirty (30) days from the date of this publication comments relating to the proposed Consent Decree. Comments should be addressed to the Assistant Attorney General, Environment and Natural Resources Division, and either e-mailed to pubcomment-ees.enrd@usdoj.gov or mailed to P.O. Box 7611, U.S. Department of Justice, Washington, DC 20044-7611, and should refer to United States v. Atlanta Gas Light Company, et al., D.J. Ref. 90-11-2-07157.

The proposed Consent Decree may be examined at the United States Attorney's Office, 500 W. Church Street, Suite 300, Orlando, FL 33805, and the United States Environmental Protection Agency, Region 4, 61 Forsyth Street, Atlanta, GA 30303. During the public comment period, the Consent Decree may also be examined on the following Department of Justice Web site, http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation no. (202) 514-1547. In requesting a copy from the Consent Decree Library, please enclose a check in the amount of $13.75 (25 cents per page reproduction cost) for a copy exclusive of appendices, or $110.75 (25 cents per page reproduction cost) for a copy including appendices payable to the “U.S. Treasury” or, if by e-mail or fax, forward a check in that amount to the Consent Decree Library at the stated address.

Henry S. Friedman,
Assistant Section Chief, Environmental Enforcement Section, Environment and Natural Resources Division.

[FR Doc. E8-6854 Filed 4-2-08; 8:45 am]

BILLING CODE 4410-15-P